PEACE CORPS

Information Collection Request; Submission for OMB Review

AGENCY: Peace Corps.

ACTION: 60-Day notice and request for comments.

SUMMARY: The Peace Corps will be submitting the following information collection request to the Office of Management and Budget (OMB) for review and approval. In accordance with the Paperwork Reduction Act of 1995 and implementing OMB guidance, we are requesting comments on this collection from all interested individuals and organizations. The purpose of this notice is to allow 60 days for public comment in the Federal Register preceding submission to OMB.

DATES: Submit comments on or before January 6, 2021.

ADDRESSES: Address written comments and recommendations for the proposed information collection to Virginia Burke, FOIA/Privacy Act Officer, by email at pcfr@peacecorps.gov. Email comments must be made in text and not in attachments.

FOR FURTHER INFORMATION CONTACT: Virginia Burke, FOIA/Privacy Act Officer, at (202) 692-1887, or PCFR@peacecorps.gov.

SUPPLEMENTARY INFORMATION: Title: Questionnaire for Peace Corps Volunteer Background Investigation.

OMB Control Number: 0420-0001.

Type of Request: Review/Re-approve.

Affected Public: Individuals.

Respondents Obligation to Reply: Voluntary.

Respondents: Potential and current volunteers.

Burden to the Public:

• Questionnaire for Peace Corps Volunteer Background Investigation.

(a) Estimated number of Applicants: 5,000.

(b) Frequency of response: one time.

(c) Estimated average burden per response: 2 Minutes.

(d) Estimated total reporting burden: 167 hours.

(e) Estimated annual cost to respondents: 0.00.

General Description of Collection: The Office of Volunteer Recruitment and Selection uses the Questionnaire for Peace Corps Volunteer Background Investigation form (BI form) as authorization from the invited Peace Corps Volunteer applicant to conduct a background check through the Office of Personnel Management (OPM) or other contract background investigator of pertinent records pertaining to applicants' interactions with the judicial system, qualifications, eligibility and suitability for Peace Corps volunteer service.

Request for Comment: Peace Corps invites comments on whether the proposed collections of information are necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice is issued in Washington, DC, on December 2, 2020.
Virginia Burke,
FOIA/Privacy Act Officer, Management.

[FR Doc. 2020-26806 Filed 12-4-20; 8:45 am]

BILLING CODE 6051-01-P